GENERAL SERVICES ADMINISTRATION

[OMB Control No. 3090-0292; Docket No. 2020-0001; Sequence No. 2]

Submission for OMB Review; FFATA Subaward and Executive Compensation Reporting Requirements

AGENCY: Office of the Integrated Award Environment, General Services Administration (GSA).

ACTION: Notice of request for comments regarding an extension to an existing OMB information collection.

SUMMARY: Under the provisions of the Paperwork Reduction Act of 1995, the Regulatory Secretariat Division will be submitting to the Office of Management and Budget (OMB) a request to review and approve a renewal of the currently approved information collection requirement regarding FFATA Subaward and Executive Compensation Reporting Requirements.

DATES: Submit comments on or before January 13, 2021.

ADDRESSES: Written comments and recommendations for this information collection should be sent within 30 days of publication of this notice to www.reginfo.gov/public/do/PRAMain. Find this particular information collection by selecting “Currently under Review—Open for Public Comments” or by using the search function.

FOR FURTHER INFORMATION CONTACT: Nancy Goode, Director, Office of Stakeholder Engagement, Office of the Integrated Award Environment, GSA, at telephone number 703-605-2175; or via email at nancy.goode@gsa.gov.

SUPPLEMENTARY INFORMATION:

A. Purpose

The Federal Funding Accountability and Transparency Act (Pub. L. 109-282, as amended by section 6202(a) of Pub. L. 110-252), known as FFATA or the Transparency Act requires information disclosure of entities receiving Federal financial assistance through Federal awards such as Federal contracts, sub-contracts, grants and sub-grants, FFATA 2(a),(2),(i),(ii). Beginning October 1, 2010, the currently approved Paperwork Reduction Act submission directed compliance with the Transparency Act to report prime and first-tier sub-award data. Specifically, Federal agencies and prime awardees of grants were to ensure disclosure of executive compensation of both prime and subawardees and sub-award data pursuant to the Transparency Act. This information collection requires reporting of only the information enumerated under the Transparency Act.

B. Annual Reporting Burden

Sub-award Responses: 107,614.

Hours Per Response: 1.

Total Burden Hours: 107,614.

Executive Compensation Responses: 41,298.

Hours Per Response: 1.

Total Burden Hours: 41,298.

Total Annual Burden Hours: 148,912.

C. Public Comments

A 60-day notice published in the Federal Register at 85 FR 52351 on August 25, 2020. Two comments were received. However, they did not change the estimate of the burden.

Comment 1: Why is this collection of information necessary and what is the utility? Here are recommendations for improvement.

Response: This Information Collection is specific to the revisions of Title 2 of the Code of Federal Regulations (2 CFR) published in 85 FR 49506 on August 13, 2020 affecting Federal grants and agreements guidance. The information is required by the Federal Funding Accountability and Transparency Act (FFATA) of 2006 (Pub. L.109—282), as amended by the Digital Accountability and Transparency Act (DATA) of 2014 (Pub. L. 113—101). The intent of which is to make information on Federal expenditures more easily accessible and transparent for the public. Exceptions for specific entities and the timing requirement for the reporting cycle for reporting subaward and executive compensation information are provided in 2 CFR part 170, which aligns with the exceptions provided in the statute.

Also, non-Federal entities seeking Federal financial assistance, unless otherwise exempt, are required to attain a unique entity identifier—currently the DUNS—in accordance with 2 CFR part 25.

Comment 2: Coronavirus warning.

Response: Not relevant to this information collection.

Obtaining Copies of Proposals: Requesters may obtain a copy of the information collection documents from the General Services Administration, Regulatory Secretariat Division (MVCB), 1800 F Street NW, Washington, DC 20405, telephone 202-501-4755. Please cite OMB Control No. 3090-0292, FFATA Subaward and Executive Compensation Reporting Requirements, in all correspondence.

Beth Anne Killoran,
Chief Information Officer, General Services Administration.

[FR Doc. 2020-27428 Filed 12-11-20; 8:45 am]

BILLING CODE 6820-WY-P